DEPARTMENT OF THE INTERIOR

Fish and Wildlife Service

Notice of Availability of the Piping Plover (Charadrius melodus) Great Lakes Population Draft Recovery Plan for Review and Comment

AGENCY: Fish and Wildlife Service, Interior.

ACTION: Notice of document availability.

SUMMARY: The U.S. Fish and Wildlife Service (Service) announces availability for public review of the draft recovery plan for the Great Lakes population of Piping Plovers (Charadrius melodus), a species that is federally listed as endangered under the Endangered Species Act of 1973 (Act), as amended (16 U.S.C. 1531 et seq.). This species occurs or may occur on public and private land in Illinois, Indiana, Michigan, Minnesota, New York, Ohio, Pennsylvania, Wisconsin, Alabama, Florida, Georgia, Louisiana, North Carolina, South Carolina, Mississippi, and Texas. The Service solicits review and comment from the public on this draft plan.

DATES: Comments on the draft recovery plan must be received on or before September 4, 2002, will be considered by the Service.

ADDRESSES: Persons wishing to review the draft recovery plan may obtain a copy by contacting the Field Supervisor, U.S. Fish and Wildlife Service, East Lansing Ecological Services Field Office, 2651 Coolidge Road, East Lansing, Michigan 48823 or by accessing the website: http://midwest.fws.gov/Endangered.

FOR FURTHER INFORMATION CONTACT: Mr. Jack Dingledine at the above address, or telephone at (517) 351-6320. TTY users may contact Mr. Dingledine through the Federal Relay Service at (800) 877-8339.

SUPPLEMENTARY INFORMATION:

Background

Restoring an endangered or threatened animal or plant to the point where it is again a secure, self-sustaining member of its ecosystem is a primary goal of the Service's endangered species program. To help guide the recovery effort, the Service is working to prepare recovery plans for most of the federally listed threatened and endangered species native to the United States. Recovery plans describe actions considered necessary for conservation of the species, establish criteria for reclassification and delisting, and provide estimates of the time and costs for implementing the recovery measures needed.

The Act, requires the development of recovery plans for listed species unless such a plan would not promote the conservation of a particular species. Section 4(f) of the Act, as amended in 1988, requires public notice and opportunity for public review and comment be provided during recovery plan development. The Service will consider all information presented during a public comment period prior to approval of each new or revised recovery plan. The Service and other Federal agencies will also take these comments into consideration in the course of implementing approved recovery plans.

The Great Lakes population of piping plovers was listed as endangered on December 11, 1985. The species inhabits beaches on the Great Lakes during the breeding season of April through September, and winters on Atlantic and Gulf Coast beaches. Destruction of habitat, disturbance, and increased predation rates due to elevated predator densities in piping plover habitat are described as the main reasons for this species' endangered status and continue to be the primary threats to its recovery. Thirty nesting pairs were recorded in 2000, all in Michigan. Breeding has not occurred outside of Michigan and Wisconsin for over a decade, although occurrence during migration has been recorded in other Great Lakes States.

Critical habitat for the breeding population of the Great Lakes piping plover was designated on May 7, 2001. A total of 35 units, encompassing 325 kilometers (201 miles) of shoreline in eight states are included in the designation. Critical habitat designation identifies habitat areas that provide essential life cycle needs of the species and seeks to protect adequate habitat to meet the recovery criteria. Designation does not, however, signify that areas outside of designation are unimportant or may be required for recovery.

Recovery will be achieved and the species may be removed from the list of Threatened and Endangered Species when the following five criteria are met: (1) The population has increased to at least 150 pairs with at least 100 breeding pairs in Michigan and 50 breeding pairs distributed among other sites in other Great Lakes States; (2) five-year average fecundity has increased to 2.0 fledglings each pair per year across the breeding range; (3) essential breeding habitat in the Great Lakes region and wintering habitat areas are protected; (4) genetic diversity within the population is adequate for population persistence and can be maintained over the long-term; and (5) agreements and funding mechanisms are in place for long-term protection and management activities in essential breeding and wintering habitats. The species may be reclassified from endangered to threatened when the first four criteria are met and delisted when all five criteria are achieved.

Public Comments Solicited

The Service solicits written comments on the recovery plan described. All comments received by the date specified will be considered prior to approval of the plan. Written comments and materials regarding the plan should be sent to the Field Supervisor, Ecological Services Field Office, and comments received will be available for public inspection by appointment during normal business hours (see ADDRESSES section.)

Authority: The authority for this action is section 4(f) of the Endangered Species Act, 16 U.S.C. 1533(f).

Dated: July 18, 2002.
Charles M. Wooley,
Assistant Regional Director, Ecological Services.

[FR Doc. 02-19626 Filed 8-2-02; 8:45 am]

BILLING CODE 4310-55-P